SOCIAL SECURITY ADMINISTRATION

Ticket to Work and Work Incentives Advisory Panel Teleconference Meeting

AGENCY: Social Security Administration (SSA).

ACTION: Notice of teleconference meeting.

DATES: November 27, 2000 1:30 p.m.-3:30 p.m.

ADDRESSES: Social Security Administration, International Trade Center, 500 E St. SW, 8th Floor, Theatre Room, Washington, D.C. 20254.

SUPPLEMENTARY INFORMATION: Type of meeting: The Teleconference is open to the public. The public is invited to participate by coming to the address listed above. Only members of the panel will participate in deliberations by telephone.

Purpose: In accordance with section 10(a)(2) of the Federal Advisory Committee Act, the Social Security Administration (SSA) announces a Teleconference meeting of the Ticket to Work and Work Incentives Advisory Panel (the Panel). Section 101(f) of the Ticket to Work and Work Incentives Improvement Act of 1999 (TWWIIA), Public Law 106-170, establishes the Panel to advise the Commissioner of Social Security, the President, and the Congress on issues related to work incentives programs, planning, and assistance for individuals with disabilities as provided under section 101(f)(2)(A) of TWWIIA. The Panel is also to advise the Commissioner on matters specified in section 101(f)(2)(B) of that Act, including certain issues related to the Ticket to Work and Self-Sufficiency Program established under section 101(a) of that Act.

This is a deliberative teleconference meeting of the Panel. The Panel will meet to discuss the status of the TWWIIA implementation. Public testimony will not be heard at this meeting. Any interested citizen is encouraged to submit written comments concerning this topic in advance of or at the meeting for the Panel's consideration.

Agenda: The teleconference will commence Monday, November 27, 2000 at, 1:30 p.m.-3:30 p.m. At this teleconference, the Panel will use this time to discuss the status of TWWIIA implementation. Since seating may be limited, persons interested in attending this meeting should contact the Panel staff by E-mailing Kristen Breland, at “kristen.breland@ssa.gov” or calling (410) 966-7225.

A copy of the agenda follows this announcement. A copy of the agenda may also be obtained from the Internet at the web site of SSA's Office of Employment Support Programs at “http://www.ssa.gov/work/resources/toolkit.” or by contacting the Panel staff at the mailing address, Email address, telephone and FAX number shown below.

Requests for materials in alternate formats, i.e., large print, Braille, computer disc, etc. may be made to the Panel staff at the addresses and numbers shown below.

Records are being kept of all Panel proceedings and will be available for public inspection at the Office of Employment Support Programs' web site at “http://www.ssa.gov/work” or by appointment at the office of the Ticket to Work and Work Incentives Advisory Panel Staff, 107 Altmeyer Building, 6401 Security Boulevard, Baltimore, MD 21235. Anyone requiring information regarding the Panel should contact the Panel staff by:

• Mail addressed to Social Security Administration, Ticket to Work and Work Incentives Advisory Panel Staff, 107 Altmeyer Building, 6401 Security Boulevard, Baltimore, MD 21235;

• Telephone at (410) 965-9063;

• FAX at (410) 966-8597; or

• Email to Kristen Breland, at “kristen.breland@ssa.gov.”

Dated: October 5, 2000.
Deborah M. Morrison,
Designated Federal Officer.

Ticket to Work and Work Incentives, Advisory Panel, Teleconference Meeting AGENDA

Social Security Administration, 8th Floor Theatre Room, 500 E Street, SW, Washington, DC 20254, Monday, November 27, 2000

1:30 p.m.

Meeting Convened, Presiding: Sarah Mitchell, Chair

1:30—3:15

Deliberations on the Implementation of Ticket to Work and Work Incentives Improvement Act

3:15—3:30

Administrative Issues

3:30 p.m.

Adjournment

[FR Doc. 00-26313 Filed 10-12-00; 8:45 am]

BILLING CODE 4191-02-P